DEPARTMENT OF HEALTH AND HUMAN SERVICES

Administration for Children and Families

Proposed Information Collection Activity; Comment Request

Title: National Center on Early Head Start Child Care Partnerships (NCEHS-CCP) Evaluation.

OMB No.: New Collection.

Description: The Administration for Children and Families (ACF) in the Department of Health and Human Services (HHS) has awarded 275 Early Head Start expansion and Early Head Start-child care partnership grants (EHS-CCP) in 50 states; Washington, DC; Puerto Rico; and the Northern Mariana Islands. These grants will allow new or existing Early Head Start programs to partner with local child care centers and family child care providers to expand high-quality early learning opportunities for infants and toddlers from low-income families.

NCEHS-CCP will support the effective implementation of new EHS-CCP grants by disseminating information through training and technical assistance (T/TA) and resources and materials. NCEHS-CCP is primarily targeted to T/TA providers working directly with the EHS-CCP grantees (including Office of Head Start (OHS) and Office of Child Care (OCC) National Centers, regional training and technical assistance (T/TA) specialists, and implementation planners and fiscal consultants). State and federal agencies (including OHS and OCC federal staff, Child Care and Development Fund (CCDF) administrators, Head Start State and National Collaboration directors), as well as EHS-CCP grantees will also find helpful information on partnerships through NCEHS-CCP's resources.

The NCEHS-CCP at ZERO TO THREE is proposing to conduct a descriptive study of NCEHS-CCP that will provide information that will document the activities and progress of NCEHS-CCP toward its goals and objectives. Findings from the evaluation will be translated into action steps to inform continuous quality improvement of NCEHS-CCP.

The proposed data collection activities for the descriptive study of NCEHS-CCP will include the following components:

• Stakeholder survey. Web-based surveys will be conducted in the spring of 2016 and 2018 with key stakeholders (including OHS and OCC federal and national center staff, regional T/TA specialists, CCDF administrators, Head Start state and national collaboration office directors, and implementation planners and fiscal consultants). The stakeholder survey will collect information about the types of support they received from NCEHS-CCP in the past year, their satisfaction with the support, how the T/TA informed their work with EHS CCP grantees, and how support could be improved.

• Stakeholder telephone interviews. Semi-structured telephone interviews will be conducted in spring of 2017 and 2019 with a purposively selected subgroup of stakeholders that complete the stakeholder survey. The interviews will explore in more detail the types of T/TA support participants received from NCEHS-CCP, how that support has informed their work with EHS-CCP grantees, their satisfaction with the support, successes and challenges, and suggestions for improvement.

This 60-Day Federal Register Notice covers the data collection activities for NCEHS-CCP and requests clearance for (1) the stakeholder survey, and (2) the stakeholder telephone interviews.

Respondents: Respondents include OHS and OCC federal and national center staff, regional T/TA specialists, CCDF administrators, Head Start state and national collaboration office directors, and implementation planners and fiscal consultants.

Annual Burden Estimates: The following instruments are proposed for public comment under this 60-Day Federal Register Notice.

Instrument | Total number of respondents | Annual number of responses per respondent | Number of responses per respondent | Average burden hours per response | Annual burden hours
Stakeholder survey | 350 | 1 | 2 | .5 | 175
Stakeholder telephone interviews | 150 | 1 | 1 | 1.0 | 75

Estimated annual burden total: 250.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-27239 Filed 10-26-15; 8:45 am]

BILLING CODE 4184-01-P